DEPARTMENT OF COMMERCE

Foreign-Trade Zones Board

[Order No. 1692]

Expansion of Foreign-Trade Zone 163, Ponce, Puerto Rico, Area

Pursuant to its authority under the Foreign-Trade Zones Act of June 18, 1934, as amended (19 U.S.C. 81a-81u), the Foreign-Trade Zones Board (the Board) adopts the following Order:

Whereas, CODEZOL, C.D., grantee of Foreign-Trade Zone 163, submitted an application to the Board for authority to expand existing Site 1 to include additional acreage and to expand the zone to include a site at the ProCaribe Industrial Park (Site 11) in Penuelas, Puerto Rico, adjacent to the Ponce Customs and Border Protection port of entry (FTZ Docket 53-2009, filed 11/23/09);

Whereas, notice inviting public comment was given in the Federal Register (74 FR 62747, 12/1/09) and the application has been processed pursuant to the FTZ Act and the Board's regulations; and,

Whereas, the Board adopts the findings and recommendation of the examiner's report, and finds that the requirements of the FTZ Act and Board's regulations are satisfied, and that the proposal is in the public interest;

Now, therefore, the Board hereby orders:

The application to expand FTZ 163 is approved, subject to the FTZ Act and the Board's regulations, including Section 400.28, and subject to a sunset provision that would terminate authority on June 30, 2015, for Site 11 if no activity has occurred under FTZ procedures before that date.

Signed at Washington, DC, this 8 day of July 2010.
Ronald K. Lorentzen,
Deputy Assistant Secretary for Import Administration, Alternate Chairman, Foreign-Trade Zones Board.
Attest:
Andrew McGilvray,
Executive Secretary.

[FR Doc. 2010-17542 Filed 7-16-10; 8:45 am]

BILLING CODE 3510-DS-P